NUCLEAR REGULATORY COMMISSION

[NRC-2011-0139]

Biweekly Notice; Applications and Amendments to Facility Operating Licenses Involving No Significant Hazards Considerations

Background

Pursuant to section 189a. (2) of the Atomic Energy Act of 1954, as amended (the Act), the U.S. Nuclear Regulatory Commission (the Commission or NRC) is publishing this regular biweekly notice. The Act requires the Commission to publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from June 2, 2011, to June 15, 2011. The last biweekly notice was published on June 14, 2011 (75 FR 34763).

ADDRESSES: Please include Docket ID NRC-2011-0139 in the subject line of your comments. Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed. You may submit comments by any one of the following methods:

• Federal Rulemaking Web Site: Go to http://www.regulations.gov and search for documents filed under Docket ID NRC-2011-0139. Address questions about NRC dockets to Carol Gallagher, telephone: 301-492-3668; e-mail: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

You can access publicly available documents related to this notice using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

• Federal Rulemaking Web Site: Public comments and supporting materials related to this notice can be found at http://www.regulations.gov by searching on Docket ID NRC-2011-0139.

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license. Requests for a hearing and a petition for leave to intervene shall be filed in accordance with the Commission's ”Rules of Practice for Domestic Licensing Proceedings” in 10 CFR Part 2. Interested person(s) should consult a current copy of 10 CFR 2.309, which is available at the Commission's PDR, located at One White Flint North, Public File Area O1-F21, 11555 Rockville Pike (first floor), Rockville, Maryland 20852. The NRC regulations are accessible electronically from the NRC Library on the NRC Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the Internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at 301-415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at 866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd.nrc.gov/EHD_Proceeding/home.asp, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment, which is available for public inspection at the Commission's PDR, located at One White Flint North, Public File Area O1 F21, 11555 Rockville Pike (first floor), Rockville, Maryland.

Entergy Gulf States Louisiana, LLC, and Entergy Operations, Inc., Docket No. 50-458, River Bend Station, Unit 1, West Feliciana Parish, Louisiana

Date of amendment request: April 11, 2011.

Description of amendment request: The proposed amendment would revise the Technical Specifications (TSs) to define a new time limit for restoring inoperable Reactor Coolant System (RCS) leakage detection instrumentation to operable status; establish alternate methods of monitoring RCS leakage when one or more required monitors are inoperable; make a minor editorial change to correct a formatting issue to be consistent with the Technical Specifications Task Force (TSTF), “Writer's Guide for Plant-Specific Improved Technical Specifications,” and the [Boiling-Water Reactor] BWR6 TS format and does not affect the intent of the TSTF or the NRC safety evaluation; and make TS Bases changes which reflect the proposed changes and more accurately reflect the contents of the facility design basis related to operability of the RCS leakage detection instrumentation. These changes are consistent with NRC-approved Revision 3 to TSTF Improved Standard Technical Specification (STS) Change Traveler TSTF-514, “Revise BWR Operability Requirements and Actions for RCS Leakage Instrumentation.”

Basis for proposed no significant hazards consideration determination: As required by 10 CFR 50.91(a), the licensee has provided its analysis of the issue of no significant hazards consideration, which is presented below:

1. Does the proposed change involve a significant increase in the probability or consequences of an accident previously evaluated?

Response: No.

The proposed change clarifies the operability requirements for the RCS leakage detection instrumentation and reduces the time allowed for the plant to operate when the only TS-required operable RCS leakage detection instrumentation monitor is the drywell atmospheric gaseous radiation monitor. The monitoring of RCS leakage is not a precursor to any accident previously evaluated. The monitoring of RCS leakage is not used to mitigate the consequences of any accident previously evaluated.

Therefore, it is concluded that this change does not involve a significant increase in the probability or consequences of an accident previously evaluated.

2. Does the proposed change create the possibility of a new or different kind of accident from any accident previously evaluated?

Response: No.

The proposed change clarifies the operability requirements for the RCS leakage detection instrumentation and reduces the time allowed for the plant to operate when the only TS-required operable RCS leakage detection instrumentation monitor is the drywell atmospheric gaseous radiation monitor. The proposed change does not involve a physical alteration of the plant (no new or different type of equipment will be installed) or a change in the methods governing normal plant operation.

Therefore, it is concluded that the proposed change does not create the possibility of a new or different kind of accident from any previously evaluated.

3. Does the proposed change involve a significant reduction in a margin of safety?

Response: No.

The proposed change clarifies the operability requirements for the RCS leakage detection instrumentation and reduces the time allowed for the plant to operate when the only TS-required operable RCS leakage detection instrumentation monitor is the drywell atmospheric gaseous radiation monitor. Reducing the amount of time the plant is allowed to operate with only the drywell atmospheric gaseous radiation monitor operable increase the margin of safety by increasing the likelihood that an increase in RCS leakage will be detected before it potentially results in gross failure.

Therefore, it is concluded that the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Michael T. Markley.

Exelon Generation Company, LLC, Docket Nos. 50-373 and 50-374, LaSalle County Station, Units 1 and 2, LaSalle County, Illinois

Date of amendment request: May 6, 2011.

Description of amendment request: The proposed amendments would revise Technical Specification 3.7.3, “Ultimate Heat Sink,” to reduce the allowed sedimentation in the Core Standby Cooling System (CSCS) pond from ≤ 1.5 feet to ≤ 1.0 feet, which allows the temperature of the cooling water supplied to the plant to be increased from ≤ 101.25 °F to ≤ 101.95 °F resulting in a higher volume of cooling water available in the CSCS pond. Basis for proposed no significant hazards consideration determination: As required by 10 CFR 50.91(a), the licensee has provided its analysis of the issue of no significant hazards consideration, which is presented below:

1. Does the proposed change involve a significant increase in the probability or consequences of an accident previously evaluated?

Response: No.

The proposed change will reduce the allowed sedimentation in the Core Standby Cooling System (CSCS) pond from ≤ 1.5 feet to ≤ 1.0 feet, which allows the indicated temperature of the cooling water supplied to the plant from the CSCS pond to be increased from ≤ 101.25 °F to ≤ 101.95 °F based on reduction in post-accident heatup from 2.0 °F to 1.3 °F due to a resulting higher volume of cooling water available in the CSCS pond.

Analyzed accidents are assumed to be initiated by the failure of plant structures, systems, or components. An inoperable ultimate heat sink (UHS) is not considered as an initiator of any analyzed events. As such, there is not a significant increase in the probability of a previously evaluated accident. Allowing the UHS to operate with a lower allowance for sedimentation at a higher allowable indicated temperature, will not affect the failure probability of any equipment. The current heat analysis calculations of record for LSCS, Units 1 and 2, assume a UHS post-accident peak inlet temperature of 104 °F. The proposed temperature increase is based on an adjustment to post accident UHS heatup due to restricting the level of sedimentation allowed in the CSCS pond. The current analysis bounds the proposed change. This higher allowable indicated temperature does not impact the loss of coolant accident (LOCA) Peak Clad Temperature Analysis, LOCA Containment Analysis or the non-LOCA analyses; therefore, continued operation with a UHS temperature > 101.25 °F but ≤ 101.95 °F will not increase the consequences of an accident previously evaluated in the Updated Final Safety Analysis Report (UFSAR).

Based on the information discussed above, the reduction in the allowable CSCS pond sedimentation depth to ≤ 1.0 feet in concert with an allowable UHS temperature of ≤ 101.95 °F, has no effect on the results of the design basis event, and will continue to assure that each required heat exchanger can perform its safety function. The plant heat exchangers will continue to provide sufficient cooling for the heat loads during the most severe 30-day period. Since the proposed change has no impact on any analyzed accident, the proposed change does not involve a significant increase in the probability or consequences of an accident previously evaluated.

2. Does the proposed change create the possibility of a new or different kind of accident from any accident previously evaluated?

Response: No.

The proposed change involves reducing the allowable sedimentation of the CSCS pond from ≤ 1.5 feet to ≤ 1.0 feet. This proposed action will not alter the manner in which equipment is operated, nor will the functional demands on credited equipment be changed. Reducing the CSCS pond sedimentation limit does not introduce any new or different modes of plant operation, nor does it affect the operational characteristics of any safety-related equipment or systems; as such, no new failure modes are being introduced. The proposed action does not alter assumptions made in the safety analysis. Increasing the allowable indicated temperature of the cooling water supplied to the plant from the CSCS pond from ≤ 101.25 °F to ≤ 101.95 °F has no impact on safety related systems. The plant is designed such that the residual heat removal (RHR) pumps on the unit undergoing the LOCH/loss of offsite power (LOOP) conditions would start upon the receipt of a signal, and would load onto their respective Emergency Diesel Generators' emergency bus during the LOOP event. The increase in the allowable indicated temperature of the cooling water supplied to the plant from the CSCS pond will not require operation of additional RHR pumps; therefore, system operation is unaffected by the proposed change.

Based on the above information, the proposed change does not create the possibility of a new or different kind of accident from any accident previously evaluated.

3. Does the proposed change involve a significant reduction in a margin of safety?

Response: No.

The proposed change reduces the allowable sedimentation levels in the CSCS pond to ≤ 1.0 feet and consequently allows an increase in the allowable indicated temperature of the cooling water supplied to the plant from the CSCS pond to ≤ 101.95 °F. The margin of safety is determined by the design and qualification of the plant equipment, the operation of the plant within analyzed limits, and the point at which protective or mitigative actions are initiated. The proposed action does not impact these factors as the analyzed peak post accident inlet temperature of the UHS is unaffected based on the reduced allowable sediment depth in the CSCS pond. This change is supported by an engineering analysis that determined that existing post-accident CSCS pond heatup rates calculations were overly conservative based on observed CSCS pond sedimentation being significantly less than predicted. No setpoints are affected, and no other change is being proposed in the plant operational limits as a result of this change. All accident analysis assumptions and conditions will continue to be met. Adequate design margin is available to ensure that the required margin of safety is not significantly reduced.

Therefore, the proposed change does not involve a significant reduction in a margin of safety.

The NRC staff has reviewed the licensee's analysis and, based on this review, it appears that the three standards of 10 CFR 50.92(c) are satisfied. Therefore, the NRC staff proposes to determine that the requested amendments involve no significant hazards consideration.

Attorney for licensee: Mr. Bradley J. Fewell, Associate General Counsel, Exelon Nuclear, 4300 Winfield Road, Warrenville, IL 60555.

NRC Branch Chief: Jacob. I. Zimmerman.

Florida Power Corporation, et al., Docket No. 50-302, Crystal River Unit 3 Nuclear Generating Plant, Citrus County, Florida

Date of amendment request: March 24, 2011.

Description of amendments request: The proposed amendment would adopt Technical Specification Task Force (TSTF), Improved Standard Technical Specifications Change Traveler, TSTF-248, Revision 0, “Revise Shutdown Margin Definition for Stuck Rod Exception,” which modifies the definition of shutdown margin to include a provision allowing an exception to the highest reactivity worth stuck control rod penalty if there are two independent means of confirming that all control rods are fully inserted in the reactor core.

Basis for proposed no significant hazards consideration determination: As required by 10 CFR 50.91(a), the licensee has provided its analysis of the issue of no significant hazards consideration, which is presented below:

1. Does not involve a significant increase in the probability or consequences of an accident previously evaluated.

The revision to the Shutdown Margin (SDM) definition will result in analytical flexibility for determining SDM. Changes in the definition will not have an impact on the probability of an accident.

The introduction of this definition change does not change continued compliance with all applicable regulatory requirements and design criteria (e.g., train separation, redundancy, and single failure). Therefore, since all plant systems will continue to function as designed, all plant parameters will remain within their design limits. As a result, the proposed change will not increase the consequences of an accident.

Based on this discussion, the proposed LAR [license amendment request] does not significantly increase the probability or consequences of an accident previously evaluated.

2. Does not create the possibility of a new or different kind of accident from any accident previously evaluated.

Revising the definition of SDM in the Crystal River Unit 3 (CR-3) Improved Technical Specifications (ITS) would not require core designers to revise any SDM calculation. Rather, it would afford the analytical flexibility for determining SDM for a particular circumstance.

The proposed change does not involve any change in the design, configuration, or operation of the nuclear plant. The current plant safety analyses, therefore, remain complete and accurate in addressing the design basis events and in analyzing plant response and consequences.

The Limiting Conditions for Operation, Limiting Safety System Settings and Safety Limits specified in the CR-3 ITS are not affected by the proposed change. As such, the plant conditions for which the design basis accident analysis were performed remain valid.

The LAR does not introduce a new mode of plant operation or new accident precursors, does not involve any physical alterations to the plant configuration, or make changes to system setpoints that could initiate a new or different kind of accident.

Therefore, the LAR does not create the possibility of a new or different kind of accident from any accident previously evaluated.

3. Does not involve a significant reduction in a margin of safety.

Margin of safety is related to the confidence in the ability of the fission product barriers to perform their accident mitigation functions. These barriers include the fuel and the fuel cladding, the reactor coolant system and the reactor containment building and containment related systems. The proposed change will not impact the reliability of these barriers to function. Radiological dose to plant operators or to the offsite public will not increase as a result of the proposed change. The change to the CR-3 ITS definition for SDM will not impact the safety barriers of the plant. Adequate SDM will continue to be assured for all operational conditions.

Additionally, the current SDM calculation requires the consideration of the worth of the most reactive control rod to remain out of the core. This provides a margin of safety in that additional boron has to be injected to assure the reactor is shut down and remains shut down. This requirement will remain. However, once all control rods are verified to be fully inserted by two independent means, the conservatism of the additional boron concentration is balanced by the additional reactive worth of the inserted control rod and the additional boron will not be necessary to maintain the required SDM. The independent verification of all rods in will provide a very high confidence that adequate SDM will continue to be assured.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David T. Conley, Associate General Counsel II—Legal Department, Progress Energy Service Company, LLC, Post Office Box 1551, Raleigh, NC 27602.

NRC Branch Chief: Douglas A. Broaddus.

Nine Mile Point Nuclear Station, LLC, (NMPNS) Docket No. 50-220, Nine Mile Point Nuclear Station Unit No. 1 (NMP1), Oswego County, New York

Date of amendment request: May 25, 2011.

Description of amendment request: The proposed license amendment would delete an outdated reference to a specific date delineated in License Condition 2.B.(2) to be consistent with the wording found in the corresponding license condition at multiple stations including Nine Mile Point Unit 2 and Calvert Cliffs Units 1 and 2. This license condition authorizes NMPNS to “* * * receive, possess and use at any time special nuclear material as reactor fuel, in accordance with the limitations for storage and amounts required for reactor operation, as described in the Final Safety Analysis Report as supplemented and amended as of February 4, 1976.” The proposed change will remove the words “as of February 4, 1976.”

Basis for proposed no significant hazards consideration determination: As required by 10 CFR 50.91(a), the licensee has provided its analysis of the issue of no significant hazards consideration, which is presented below:

1. Does the proposed change involve a significant increase in the probability or consequences of an accident previously evaluated?

Response: No.

The NMP1 Technical Specifications (TS) and Updated Final Safety Analysis Report (UFSAR) provide the specific limitations on the number of fuel assemblies in the NMP1 spent fuel pool, fresh fuel storage vault, and the reactor core. Removing the outdated reference to the February 4, 1976 UFSAR from License Condition 2.B.(2) has no effect on these limitations or on the supporting evaluations. The proposed change does not affect a precursor to any accident previously evaluated nor does it affect the ability of any system to mitigate the consequences of any accident previously evaluated.

Therefore, the proposed change does not involve a significant increase in the probability or consequences of an accident previously evaluated.

2. Does the proposed change create the possibility of a new or different kind of accident from any accident previously evaluated?

Response: No.

The NMP1 TS and UFSAR provide the specific limitations on the number of fuel assemblies in the NMP1 spent fuel pool, fresh fuel storage vault, and the reactor core. Removing the outdated reference to the February 4, 1976 UFSAR from License Condition 2.B.(2) has no effect on these limitations or on the supporting evaluations. The proposed change does not introduce a new mode of plant operation and does not involve a physical modification to the plant. The change will not introduce new accident initiators or impact the assumptions made in a safety analysis.

Therefore, the proposed change does not create the possibility of a new or different kind of accident from any accident previously evaluated.

3. Does the proposed change involve a significant reduction in a margin of safety?

Response: No.

Margin of safety is related to confidence in the ability of the fission product barriers to perform their design functions during and following postulated accidents. The NMP1 TS and UFSAR provide the specific limitations on the number of fuel assemblies in the NMP1 spent fuel pool, fresh fuel storage vault, and the reactor core. Removing the outdated reference to the February 4, 1976, UFSAR from License Condition 2.B.(2) has no effect on these limitations or on the supporting evaluations. Accordingly, no margin of safety is affected.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Carey W. Fleming, Senior Counsel, Constellation Energy Nuclear Group, LLC, 100 Constellation Way, Suite 200C, Baltimore, MD 21202.

NRC Acting Branch Chief: John P. Boska

Nine Mile Point Nuclear Station, LLC, (NMPNS) Docket No. 50-410, Nine Mile Point Nuclear Station Unit No. 2 (NMP 2), Oswego County, New York

Date of amendment request: March 30, 2011.

Description of amendment request: The proposed amendment would revise Technical Specification (TS) Section 3.4.7, “RCS [Reactor Coolant System] Leakage Detection Instrumentation,” to define a new time limit for restoring inoperable RCS leakage detection instrumentation to operable status and establish alternate methods of monitoring RCS leakage when required monitors are inoperable. The proposed changes would be consistent with the NRC-approved Revision 3 to Technical Specification Task Force (TSTF), Improved Standard Technical Specification (STS) Change Traveler TSTF-514, “Revise BWR [boiling-water reactor] Operability Requirements and Actions for RCS Leakage Instrumentation.” The NRC staff issued a Notice of Availability of the models for referencing in license amendment applications in the Federal Register on December 17, 2010 (75 FR 79048) as part of the consolidated line item improvement process.

Basis for proposed no significant hazards consideration determination: As required by 10 CFR 50.91(a), the licensee has provided its analysis of the issue of no significant hazards consideration, which is presented below:

1. Does the proposed change involve a significant increase in the probability or consequences of an accident previously evaluated?

Response: No.

The proposed change clarifies the operability requirements for the RCS leakage detection instrumentation and reduces the time allowed for the plant to operate when the only TS-required operable Reactor Coolant System (RCS) leakage detection instrumentation monitor is the drywell atmospheric gaseous radioactivity monitor. The monitoring of RCS leakage is not a precursor to any accident previously evaluated. The monitoring of RCS leakage is not used to mitigate the consequences of any accident previously evaluated.

Therefore, it is concluded that this change does not involve a significant increase in the probability or consequences of an accident previously evaluated.

2. Does the proposed change create the possibility of a new or different kind of accident previously evaluated?

Response: No.

The proposed change clarifies the operability requirements for the RCS leakage detection instrumentation and reduces the time allowed for the plant to operate when the only TS-required operable RCS leakage detection instrumentation monitor is the drywell atmospheric gaseous radioactivity monitor. The proposed change does not involve a physical alteration of the plant (no new or different type of equipment will be installed) or a change in the methods governing normal plant operation.

Therefore, it is concluded that the proposed change does not create the possibility of a new or different kind of accident from any previously evaluated.

4. Does the proposed change involve a significant reduction in a margin of safety?

Response: No.

The proposed change clarifies the operability requirements for the RCS leakage detection instrumentation and reduces the time allowed for the plant to operate when the only TS-required operable RCS leakage detection instrumentation monitor is the drywell atmospheric gaseous radioactivity monitor. Reducing the amount of time the plant is allowed to operate with only the drywell atmospheric gaseous radioactivity monitor operable increases the margin of safety by increasing the likelihood that an increase in RCS leakage will be detected before it potentially results in gross failure.

Therefore, it is concluded that the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Carey W. Fleming, Senior Counsel, Constellation Energy Nuclear Group, LLC, 100 Constellation Way, Suite 200C, Baltimore, MD 21202.

NRC Acting Branch Chief: Douglas V. Pickett

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. (See ADDRESSES section.)

Duke Energy Carolinas, LLC, et al., Docket Nos. 50-413 and 50-414, Catawba Nuclear Station, Units 1 and 2, York County, South Carolina

Date of application for amendments: September 16, 2010, as supplemented by letter dated March 31, 2011.

Brief description of amendments: The amendments revised Technical Specification 3.3.2, “Engineered Safety Feature Actuation System (ESFAS) Instrumentation,” to replace the references to the outdated logic per train per doghouse with updated references which reflect License Amendment Nos. 249 and 243 granted by the U.S. Nuclear Regulatory Commission (NRC) staff on April 2, 2009.

Date of issuance: June 13, 2011.

Effective date: As of the date of issuance and shall be implemented within 90 days from the date of issuance.

Amendment Nos.: 264 and 260.

Renewed Facility Operating License Nos. NPF-35 and NPF-52: Amendments revised the licenses and the technical specifications.

Date of initial notice in Federal Register: January 25, 2011 (76 FR 4384). The supplement dated March 31, 2011, provided additional information that clarified the application, did not expand the scope of the application as originally noticed, and did not change the NRC staff's original proposed no significant hazards consideration determination. The Commission's related evaluation of the amendments is contained in a Safety Evaluation dated June 13, 2011.

No significant hazards consideration comments received: No.

Exelon Generation Company, LLC, Docket Nos. STN 50-454 and STN 50-455, Byron Station, Unit Nos. 1 and 2, Ogle County, Illinois

Date of application for amendment: June 30, 2009, as supplemented by letters dated. January 25, July 1, November 8, 2010, and January 31, March 16 and May 4, 2011.

Brief description of amendment: The proposed amendments revised Technical Specification (TS) 3.7.9, “Ultimate Heat Sink (UHS),” to add additional essential service water (SX) cooling tower fan requirements as a function of SX pump discharge temperature reflective of a revised analysis for the UHS.

Date of issuance: June 14, 2011.

Effective date: As of the date of issuance and shall be implemented within 90 days.

Amendment Nos.: 173/173.

Facility Operating License Nos. NPF-37 and NPF-66: The amendment revised the Technical Specifications and License.

Date of initial notice in Federal Register: September 8, 2009 (74 FR 46241). The January 25, July 1, November 8, 2010, and January 31, March 16 and May 4, 2011 supplements contained clarifying information and did not change the NRC staff=s initial proposed finding of no significant hazards consideration.

The Commission's related evaluation of the amendments is contained in a Safety Evaluation dated June 14, 2011.

No significant hazards consideration comments received: No.

Indiana Michigan Power Company (IandM), Docket Nos. 50-315 and 50-316, Donald C. Cook Nuclear Plant, Units 1 and 2, Berrien County, Michigan

Date of application for amendment: June 22, 2010, supplemented on January 13, 2011.

Brief description of amendment: The amendments revised the containment spray nozzles obstruction surveillance frequency specified in Surveillance Requirement 3.6.6.5 from a fixed “10 years” to “Following maintenance that could result in nozzle blockage.”

Date of issuance: June 1, 2011.

Effective date: As of the date of issuance and shall be implemented within 90 days from the date of issuance.

Amendment Nos.: 314 (for Unit 1) and 298 (for Unit 2).

Facility Operating License Nos. DPR-58 and DPR-74: Amendment revised the Renewed Operating License and Technical Specifications.

Date of initial notice in Federal Register: August 24, 2010 (75 FR 52042).

The supplemental information dated January 13, 2011, contained clarifying information, did not change the scope of the original application or the initial no significant hazards consideration determination, and does not expand the scope of the original Federal Register notice.

The Commission's related evaluation of the amendment is contained in a Safety Evaluation dated June 1, 2011.

No significant hazards consideration comments received: No.

NextEra Energy Point Beach, LLC, Docket Nos. 50-266 and 50-301, Point Beach Nuclear Plant, Units 1 and 2, Town of Two Creeks, Manitowoc County, Wisconsin

Date of application for amendments: June 1, 2010, as supplemented by letters dated July 9 and November 22, 2010.

Brief description of amendments: The amendments consist of revising the current license basis regarding a postulated reactor vessel head drop (RVHD) event to conform to the NRC-endorsed guidance of Nuclear Energy Institute (NEI) 08-05, “Industry Initiative on Control of Heavy Loads,” Revision 0. The proposed change to the license basis will revise Chapter 14.3.6, “Reactor Vessel Head Drop Event,” of the Final Safety Analysis Report.

Date of issuance: June 1, 2011.

Effective date: As of the date of issuance and shall be implemented within 30 days.

Amendment Nos.: 242, 246.

Renewed Facility Operating License Nos. DPR-24 and DPR-27: Amendments revise the Final Safety Analysis Report, Chapter 14.3.6, Reactor Vessel Head Drop Event.

Date of initial notice in Federal Register: September 21, 2010 (75 FR 57526). The supplemental letters contained clarifying information and did not change the staff's initial proposed finding of no significant hazards consideration.

The Commission's related evaluation of the amendments is contained in a Safety Evaluation dated June 1, 2011.

No significant hazards consideration comments received: No.

R.E. Ginna Nuclear Power Plant, LLC, Docket No. 50-244, R.E. Ginna Nuclear Power Plant, Wayne County, New York

Date of application for amendment: July 23, 2009, as supplemented by letter dated May 3, 2011.

Brief description of amendment: The amendment revises technical specification actions requiring suspension of operations involving positive reactivity addition and revises various notes precluding reduction in boron concentration. The amendment is consistent with TSTF-286, Revision 2, Define “Operations Involving Positive Reactivity Additions.”

Date of issuance: June 8, 2011.

Effective date: As of the date of issuance to be implemented within 60 days.

Amendment No.: 112.

Renewed Facility Operating License No. DPR-18: Amendment revised the License and Technical Specifications.

Date of initial notice in Federal Register: March 8, 2011 (76 FR 12765). The letter dated May 3, 2011, provided additional information that clarified the application, did not expand the scope of the application as originally noticed, and did not change the staff's original proposed no significant hazards consideration determination as published in the Federal Register.

The Commission's related evaluation of the amendment is contained in a Safety Evaluation dated June 8, 2011.

No significant hazards consideration comments received: No.

Southern Nuclear Operating Company, Inc., Georgia Power Company, Oglethorpe Power Corporation, Municipal Electric Authority of Georgia, City of Dalton, Georgia, Docket Nos. 50-321 and 50-366, Edwin I. Hatch Nuclear Plant, Unit Nos. 1 and 2, Appling County Georgia and Southern Nuclear Operating Company, Inc., Docket Nos. 50-424 and 50-425, Vogtle Electric Generating Plant, Units 1 and 2, Burke County, Georgia

Date of application for amendments: December 16, 2010.

Brief description of amendments: The amendments revised the Technical Specifications Section 2.0 “Safety Limits,” removing the requirement to report a Safety Limit Violation, that is redundant to existing regulations, Title 10 of the Code of Federal Regulations (10 CFR) Section 50.36(c)(8) “Written Reports.”

Date of issuance: June 13, 2011.

Effective date: As of the date of issuance and shall be implemented within 90 days from the date of issuance.

Amendment Nos.: 264, 208 (Hatch) and 161, 143 (Vogtle).

Facility Operating License Nos. NPF-68 and NPF-81 for Vogtle Units 1 and 2 respectively and DPR-57 and NPF-5 for Hatch Units 1 and 2 respectively: Amendments revised the licenses and the technical specifications.

Date of initial notice in Federal Register: February 22, 2011 (76 FR 9828).

The Commission's related evaluation of the amendments is contained in a Safety Evaluation dated June 13, 2011.

No significant hazards consideration comments received: No.

Dated at Rockville, Maryland this 16th day of June 2011.
For the Nuclear Regulatory Commission.
Joseph G. Giitter,
Director, Division of Operating Reactor Licensing, Office of Nuclear Reactor Regulation.

[FR Doc. 2011-16030 Filed 6-27-11; 8:45 am]

BILLING CODE 7590-01-P